SECURITIES AND EXCHANGE COMMISSION

[File No. 500-1]

In the Matter of: Safecode Drug Technologies Corp., Dynamic Ventures Corp.; Order of Suspension of Trading

August 12, 2016.

It appears to the Securities and Exchange Commission (“Commission”) that there is a lack of current and accurate information concerning the securities of Safecode Drug Technologies Corp. (“Safecode”) (CIK No. 1508470), a Delaware corporation with its principal office located in Jerusalem, Israel with stock quoted on OTC Link (previously, “Pink Sheets”) operated by OTC Markets Group Inc. (“OTC Link”) under the symbol SAFC because it has not filed any periodic reports since the period ended June 30, 2013. On April 5, 2016, a delinquency letter was sent by the Division of Corporation Finance to Safecode requesting compliance with its periodic filing obligations. Safecode did not receive the delinquency letter due to its failure to maintain a valid address on file with the Commission as required by Rule 301 of Regulation S-T under the Securities Act of 1933 (“Securities Act”) (17 CFR 232.301 and Section 5.4 of the EDGAR Filer Manual.)

It appears to the Commission that there is a lack of current and accurate information concerning the securities of Dynamic Ventures Corp. (“Dynamic Ventures”) (CIK No. 1454384) a Delaware corporation with its principal place of business listed as Scottsdale, Arizona with stock quoted on OTC Link under the symbol DYNV, because it has not filed any periodic reports since the period ended June 30, 2012. On March 1, 2016 a delinquency letter was sent by the Division of Corporation Finance to Dynamic Ventures requesting compliance with its periodic filing obligations. Dynamic Ventures did not receive the delinquency letter due to its failure to maintain a valid address on file with the Commission as required by Rule 301 of Regulation S-T under the Securities Act (17 CFR 232.301 and Section 5.4 of the EDGAR Filer Manual.)

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on August 12, 2016, through 11:59 p.m. EDT on August 25, 2016.

By the Commission.
Lynn M. Powalski,
Deputy Secretary.

[FR Doc. 2016-19607 Filed 8-12-16; 4:15 pm]

BILLING CODE 8011-01-P